DEPARTMENT OF THE INTERIOR

Bureau of Indian Affairs

[223A2100DD/AAKC001030/A0A501010.999900]

Indian Energy Service Center; Approval of Tribal Energy Development Organization Certification for the Red Lake Band of Chippewa Indians Nation

AGENCY: Bureau of Indian Affairs, Interior.

ACTION: Notice.

SUMMARY: This notice advises the public that the Department of the Interior (DOI) approved a Tribal Energy Development Organization (TEDO) Certification for Twenty-First Century Tribal Energy, Inc, which is a Tribally owned corporation of Red Lake Band of Chippewa Indians (Red Lake).

DATES: The certification takes effect on March 17, 2022.

FOR FURTHER INFORMATION CONTACT: Ms. Johnna Blackhair, Deputy Bureau Director, Office of Trust Services, Washington DC 20240, (202) 809-2069.

SUPPLEMENTARY INFORMATION: A TEDO Certification allows the Tribe to enter into a lease or business agreement with the TEDO under 25 U.S.C. 3504(a)(2) or a right-of-way with the TEDO under 25 U.S.C. 3504(b)(2)(B) without Secretarial review and without a TERA. Red Lake's TEDO is organized under the laws of the Tribe and subject to the Tribe's jurisdiction, laws, and authority. The majority of the interest in the TEDO is owned and controlled by the Tribe (or the Tribe and one or more other Tribes) the Tribal land of which is being developed. The TEDO's organizing document requires the Tribe with jurisdiction over the land to maintain, at all times, the controlling interest in the TEDO. The TEDO's organizing document requires the Tribe to own and control, at all times, a majority of the interest in the TEDO. The certification is issued under 25 U.S.C. 3504(h) and nothing in the certification waives the sovereign immunity of the Tribe. This is to certify that the Red Lake's Tribally owned company Twenty-First Century Tribal Energy, Inc., is certified as a TEDO. The Certification is approved.

Bryan Newland,
Assistant Secretary—Indian Affairs.

[FR Doc. 2022-06710 Filed 3-29-22; 8:45 am]

BILLING CODE 4337-15-P